DEPARTMENT OF COMMERCE

National Oceanic and Atmospheric Administration

RIN 0648-XA006

Fisheries of the Exclusive Economic Zone Off Alaska; Recordkeeping and Reporting Requirements; Public Workshops

AGENCY: National Marine Fisheries Service (NMFS), National Oceanic and Atmospheric Administration (NOAA), Commerce.

ACTION: Notice of workshop.

SUMMARY: NMFS, Alaska Region, will present a workshop on seaLandings, a consolidated electronic means of reporting landings and production of commercial groundfish to multiple management agencies for Federal and State fisheries off Alaska, and 2011 recordkeeping and reporting requirements for the Alaska groundfish fisheries and Individual Fishing Quota fisheries.

DATES: The workshop will be held on November 29, 2010, 9 a.m. to 4 p.m., Pacific Standard Time.

ADDRESSES: The workshop will be held at the Swedish Cultural Center located at 1920 Dexter Ave., N. Seattle, WA, in the Svea Room located on the Main level.

FOR FURTHER INFORMATION CONTACT: Susan Hall, 907-586-7462.

SUPPLEMENTARY INFORMATION: The workshop will include a discussion of 2011 recordkeeping and reporting requirements for Alaska groundfish fisheries and Individual Fishing Quota fisheries, and instructions for completing and submitting required reports and logbooks using seaLandings.

NMFS will provide a demonstration of the new version of seaLandings for at-sea catcher/processors and motherships, and training on how to submit daily production reports, and landing reports with and without Individual Fishing Quota.

Beginning in 2011, new regulations implementing Amendment 91 to the Fishery Management Plan for groundfish of the Bering Sea and Aleutian Islands Area require American Fisheries Act catcher/processors and any catcher/processor harvesting Community Development Quota pollock to use a NMFS approved electronic logbook in lieu of using the NMFS catcher/processor trawl gear Daily Fishing Logbook. At this workshop, NMFS will provide a demonstration of the trawl catcher/processor electronic logbook in seaLandings.

Special Accommodations

These workshops will be physically accessible to people with disabilities. Requests for sign language interpretation or other auxiliary aids should be directed to Susan Hall, 907-586-7462, at least 5 working days prior to the meeting date.

Dated: November 2, 2010.
Emily H. Menashes,
Acting Director, Office of Sustainable Fisheries, National Marine Fisheries Service.

[FR Doc. 2010-28065 Filed 11-4-10; 8:45 am]

BILLING CODE 3510-22-P